DEPARTMENT OF HEALTH AND HUMAN SERVICES

Health Resources and Services Administration

Advisory Committee on Interdisciplinary, Community-Based Linkages; Notice of Meeting

In accordance with section 10(a)(2) of the Federal Advisory Committee Act (Pub. L. 92-463), notice is hereby given of the following meeting.

Name: Advisory Committee on Interdisciplinary, Community-Based Linkages.

Dates and Times: February 9, 2004, 8:30 a.m.-5:30 p.m., February 10, 2004, 8:30 a.m.-5:30 p.m., February 11, 2004, 8:30 a.m.-4 p.m.

Place: The Double Tree Hotel, 1750 Rockville Pike, Rockville, MD 20852.

Status: The meeting will be open to the public.

Agenda: Agenda items will include, but not be limited to: Welcome; plenary session on healthcare disparities as it relates to the grant programs under the purview of the Committee with presentations by speakers representing the Department of Health and Human Services (DHHS), constituent groups, field experts and committee members. The following topics will be addressed at the meeting: What is the relationship between health disparities and underserved/unserved populations; what is the impact of health disparities on Title VII programs, what are Title VII programs doing in terms of legislative requirements, and what are the best practices to address health disparities employed by Title VII programs; and what are complementary programs doing to address health disparities, what are their best practices, and how can we collaborate with these partners to build on existing infrastructures and to maximize resources to address health disparities.

Proposed agenda items are subject to change as priorities dictate.

Public Comments: Public comment will be permitted at the end of the Committee meeting on February 9, 2004 and before lunch on February 10, 2004. Oral presentations will be limited to 5 minutes per public speaker. Persons interested in providing an oral presentation should submit a written request, with a copy of their presentation to: Jennifer Donovan, Deputy Executive Secretary, Division of State, Community and Public Health, Bureau of Health Professions, Health Resources and Services Administration, Room 9-105, 5600 Fishers Lane, Rockville, Maryland 20857, Telephone (301) 443-8044.

Requests should contain the name, address, telephone number, and any business or professional affiliation of the person desiring to make an oral presentation. Groups having similar interests are requested to combine their comments and present them through a single representative. The Division of State, Community and Public Health will notify each presenter by mail or telephone of their assigned presentation time.

Persons who do not file a request in advance for a presentation, but wish to make an oral statement may register to do so at the Double Tree Hotel, Rockville, MD, on February 9, 2004. These persons will be allocated time as the Committee meeting agenda permits.

For Further Information Contact: Anyone requiring information regarding the Committee should contact Jennifer Donovan, Division of State, Community and Public Health, Bureau of Health Professions, Health Resources and Services Administration, Room 9-105, 5600 Fishers Lane, Rockville, Maryland 20857, Telephone (301) 443-8044.

Dated: January 12, 2004.
Tina M. Cheatham,
Acting Director, Division of Policy Review and Coordination.

[FR Doc. 04-1063 Filed 1-15-04; 8:45 am]

BILLING CODE 4165-15-P